DEPARTMENT OF EDUCATION

[Docket No.: ED-2025-SCC-0019]

Agency Information Collection Activities; Comment Request; Rural Education Achievement Program: Small, Rural School Achievement Program and Rural and Low-Income School Program Application

AGENCY: Office of Elementary and Secondary Education (OESE), Department of Education (Department).

ACTION: Notice.

SUMMARY: In accordance with the Paperwork Reduction Act (PRA) of 1995, the Department is proposing an extension without change of a currently approved information collection request (ICR).

DATES: Interested persons are invited to submit comments on or before July 7, 2025.

ADDRESSES: To access and review all the documents related to the information collection listed in this notice, please use http://www.regulations.gov by searching the Docket ID number ED-2025-SCC-0019. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Rural Education Achievement Program (REAP) Office, U.S. Department of Education, 400 Maryland Ave. SW, LBJ, Room 4C110, Washington, DC 20202-1200.

FOR FURTHER INFORMATION CONTACT: For specific questions related to collection activities, please contact Victoria Hammer, (202) 260-1438.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Rural Education Achievement Program: Small, Rural School Achievement Program and Rural and Low-Income School Program Application.

OMB Control Number: 1810-0646.

Type of Review: Extension without change of a currently approved ICR.

Respondents/Affected Public: State, Local, and Tribal Governments.

Total Estimated Number of Annual Responses: 4,565.

Total Estimated Number of Annual Burden Hours: 4,120.

Abstract: The Department administers two formula grant programs under Title V, Part B (Rural Education Achievement Program (REAP)) of the Elementary and Secondary Education Act of 1965 (ESEA): the Small, Rural School Achievement (SRSA) program, administered by the Department, which makes awards directly to local educational agencies (LEAs); and the Rural and Low-Income School (RLIS) program, awarded by the Department to State Educational Agencies (SEAs), which then make awards to and administer the program for LEAs. The Department may also make RLIS awards directly to LEAs in States that do not submit an approvable RLIS application to the Department. These LEAs that apply directly to the Department for RLIS funding are known as Specially Qualified Agencies (SQAs).

The information provided to the Department enables the Department to make eligibility determinations for LEAs and to calculate formula allocations for each eligible LEA. Form 1 consists of the REAP Eligibility Spreadsheet through which SEAs provide to the Department eligibility and allocation data for both the RLIS and SRSA programs. Form 2 consists of the application package for LEAs under the SRSA program. Form 3 consists of the application package for SQAs under the RLIS program. This is a request for extension of the current information collection package (OMB #1810-0646), updated for the future fiscal years in which the collection would apply.

Ross Santy,
Chief Data Officer, Office of Planning, Evaluation and Policy Development.

[FR Doc. 2025-07979 Filed 5-7-25; 8:45 am]

BILLING CODE 4000-01-P